COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes products and services previously furnished by such agencies.

DATES: Comments must be received on or before: May 3, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSNs—Product Names:

MR 13020—Scoop, Cookie, Medium

MR 13022—Corer, Cupcake

MR 13024—Cookie Press, Disc Storage, 12 Discs

MR 13025—Set, Disc, Christmas

MR 13056—Kit, Bottle, Bakers, 8pc

MR 13057—Knife, Icing, Cupcake

MR 13058—cups, Baking, Silicone

MR 13059—Spatula, Baking, cookie, Silicone

MR 13049—Set, Disc, Springtime

Mandatory Source of Supply: Cincinnati Association for the Blind, Cincinnati, OH

Contracting Activity: Military Resale-Defense Commissary Agency

NSNs—Product Names:

6508-00-NIB-0002—Refill, PURELL-SKILCRAFT, Healthcare Advanced Hand Sanitizer, Ultra Nourishing Foam, ES8 System

6508-00-NIB-0003—Refill, PURELL-SKILCRAFT, Healthcare Advanced Hand Sanitizer, Gentle & Free Foam, ES8 System

Mandatory Source of Supply: Travis Association for the Blind, Austin, TX

Mandatory For: Total Government Requirement

Contracting Activity: DEFENSE LOGISTICS AGENCY, DLA TROOP SUPPORT

Deletions

The following products and services are proposed for deletion from the Procurement List:

Products

NSNs—Product Names:

8415-00-FAB-0702—Kit, Pre-Cut Fabric, GEN III ECWCS, Jacket, OEFCP, XSmall-Short

8415-00-FAB-0706—Kit, Pre-Cut Fabric, GEN III ECWCS, Jacket, OEFCP, XSmall-Regular

8415-00-FAB-0713—Kit, Pre-Cut Fabric, GEN III ECWCS, Jacket, OEFCP, Small-Short

8415-00-FAB-0724—Kit, Pre-Cut Fabric, GEN III ECWCS, Jacket, OEFCP, Small-Regular

8415-00-FAB-0728—Kit, Pre-Cut Fabric, GEN III ECWCS, Jacket, OEFCP, Small-Long

8415-00-FAB-0730—Kit, Pre-Cut Fabric, GEN III ECWCS, Jacket, OEFCP, Med-Regular

8415-00-FAB-0733—Kit, Pre-Cut Fabric, GEN III ECWCS, Jacket, OEFCP, Med-Long

8415-00-FAB-0744—Kit, Pre-Cut Fabric, GEN III ECWCS, Jacket, OEFCP, Large-Regular

8415-00-FAB-0751—Kit, Pre-Cut Fabric, GEN III ECWCS, Jacket, OEFCP, Large-Long

8415-00-FAB-0754—Kit, Pre-Cut Fabric, GEN III ECWCS, Jacket, OEFCP, XLarge-Regular

8415-00-FAB-0759—Kit, Pre-Cut Fabric, GEN III ECWCS, Jacket, OEFCP, XLarge-Long

8415-00-FAB-0760—Kit, Pre-Cut Fabric, GEN III ECWCS, Jacket, OEFCP, XLarge-Xlong

8415-00-FAB-0925—Kit, Pre-Cut Fabric, GEN III ECWCS, Jacket, OEFCP, XXLarge-Regular

8415-00-FAB-0936—Kit, Pre-Cut Fabric, GEN III ECWCS, Jacket, OEFCP, XXLarge-Long

8415-00-FAB-0941—Kit, Pre-Cut Fabric, GEN III ECWCS, Jacket, OEFCP, XXLarge-Xlong

8415-00-FAB-6057—Kit, Pre-Cut Fabric, GEN III ECWCS, Jacket, UCP, Small-Regular

8415-00-FAB-6067—Kit, Pre-Cut Fabric, GEN III ECWCS, Jacket, UCP, Med-Regular

8415-00-FAB-6074—Kit, Pre-Cut Fabric, GEN III ECWCS, Jacket, UCP, Large-Regular

8415-00-FAB-6080—Kit, Pre-Cut Fabric, GEN III ECWCS, Jacket, UCP, XLarge-Regular

8415-00-FAB-6082—Kit, Pre-Cut Fabric, GEN III ECWCS, Jacket, UCP, Large-Long

8415-00-FAB-6089—Kit, Pre-Cut Fabric, GEN III ECWCS, Jacket, UCP, XLarge-Long

8415-00-FAB-8745—Kit, Pre-Cut Fabric, GEN III ECWCS, Jacket, UCP, Small-Short

8415-00-FAB-8758—Kit, Pre-Cut Fabric, GEN III ECWCS, Jacket, UCP, Small-Long

8415-00-FAB-8809—Kit, Pre-Cut Fabric, GEN III ECWCS, Jacket, UCP, Med-Long

8415-00-FAB-8820—Kit, Pre-Cut Fabric, GEN III ECWCS, Jacket, UCP, XLarge-XLong

8415-00-FAB-8828—Kit, Pre-Cut Fabric, GEN III ECWCS, Jacket, UCP, 2XLarge-Regular

8415-00-FAB-8829—Kit, Pre-Cut Fabric, GEN III ECWCS, Jacket, UCP, 2XLarge-Long

8415-00-FAB-8834—Kit, Pre-Cut Fabric, GEN III ECWCS, Jacket, UCP, 2XLarge-XLong

Mandatory Source of Supply: Blind Industries & Services of Maryland, Baltimore, MD

Contracting Activity: DEPT OF JUST/FEDERAL PRISON SYSTEM, Washington, DC

NSNs—Product Names:

8415-00-FAB-6409—Kit, Pre-Cut Fabric, GEN III ECWCS, Trouser, UCamo, XL-XL

8415-00-FAB-6410—Kit, Pre-Cut Fabric, GEN III ECWCS, Trouser, UCamo, XS-XS

Mandatory Source of Supply: Winston-Salem Industries for the Blind, Inc., Winston-Salem, NC

Contracting Activity: DEPT OF JUST/FEDERAL PRISON SYSTEM, Washington, DC

Services

Service Type: Janitorial/Custodial

Mandatory for: U.S. Army Reserve Center: 124 Manley Street, Brockton, MA

Mandatory Source of Supply: Morgan Memorial Goodwill Industries, Boston, MA

Contracting Activity: DEPT OF THE ARMY, W6QK ACC-PICA

Service Type: Janitorial/Custodial

Mandatory for: U.S. Army Reserve Center: 443 Route 119 North, Indiana, PA

Contracting Activity: DEPT OF THE ARMY, W6QM MICC CTR-FT DIX (RC)

Service Type: Janitorial/Minor Maintenance

Mandatory for: U.S. Federal Building and Post Office Tupelo, MS

Mandatory Source of Supply: Alabama Goodwill Industries, Inc., Birmingham, AL

Contracting Activity: PUBLIC BUILDINGS SERVICE, ACQUISITION DIVISION/SERVICES BRANCH

Michael R. Jurkowski,
Deputy Director, Business & PL Operations.

[FR Doc. 2020-07030 Filed 4-2-20; 8:45 am]

BILLING CODE 6353-01-P